DEPARTMENT OF ENERGY

Federal Energy Regulatory Commission

[Project No. 13871-000]

Wagon Wheel Associates; Notice of Application Tendered for Filing With the Commission, Notice of Application Accepted for Filing, Ready for Environmental Analysis, and Soliciting Motions To Intervene and Protests, Comments, Final Terms and Conditions, Recommendations, and Prescriptions

October 28, 2010.

Take notice that the following hydroelectric application has been filed with the Commission and is available for public inspection.

a. Type of Filing: Exemption From Licensing.

b. Project No.: P-13871-000.

c. Dated Filed: October 18, 2010.

d. Submitted by: Wagon Wheel Associates (WWA).

e. Name of Project: Humphreys Hydroelectric Project.

f. Project Description: WWA is proposing to install a penstock and powerhouse below the existing Lake Humphreys to house a 310 kilowatt hydroelectric turbine, generator, and appurtenant facilities. Electricity generated by the facility will be sold to the San Luis Valley Rural Electric Cooperative. This project will be able to produce approximately 1,200 megawatt hours of renewable energy annually which could meet the annual electricity needs of approximately 240 households.

g. Location: The proposed project would be located on Goose Creek (in the Rio Grande River basin) in Mineral County, Colorado. The proposed project would not occupy any Federal lands.

h. Filed Pursuant to: Public Utilities Regulatory Policies Act of 1978, 16 U.S.C. 2705, 2708.

i. Applicant Contact: Ms. Ruth Brown, Wagon Wheel Associates, 7.5 Goose Creek Road, South Fork, CO 81154; (970) 925-6071; ruthiebrown@comcast.net.

j. FERC Contact: Carolyn Templeton at (202) 502-8785; or e-mail at carolyn.templeton@ferc.gov.

k. A copy of the license application is available for review at the Commission in the Public Reference Room or may be viewed on the Commission's Web site (http://www.ferc.gov), using the “eLibrary” link. Enter the docket number, excluding the last three digits in the docket number field to access the document (P-13871). For assistance, contact FERC Online Support at FERCOnlineSupport@ferc.gov or toll free at 1-866-208-3676, of for TTY, (202) 502-8659. A copy is also available for inspection and reproduction at the address in paragraph (h).

Register online at http://www.ferc.gov/docs-filing/esubscription.asp to be notified via e-mail of new filing and issuances related to this or other pending projects. For assistance, contact FERC Online Support.

l. This application has been accepted for filing and is now ready for environmental analysis.

m. Cooperating Agencies: Federal, State, local, and Tribal agencies with jurisdiction and/or special expertise with respect to environmental issues that wish to cooperate in the preparation of the environmental document should follow the instructions in item (n) below.

n. Deadline for Filing Motions To Intervene and Comments: Due to the small size and particular location of this project as well as the applicant's close coordination with the Federal and State agencies in the preparation of the application, the 60-day timeframe in 18 CFR 4.34(b) for filing motions to intervene and protests, comments, terms and conditions, recommendations, and prescriptions is shortened. Instead, motions to intervene and protests, comments, terms and conditions, recommendations, and prescriptions will be due 30 days from the issuance date of this notice. All reply comments must be filed with the Commission within 45 days from the date of this notice.

All documents may be filed electronically via the Internet. See 18 CFR 385.2001(a)(1)(iii) and the instructions on the Commission's Web site (http://www.ferc.gov/docs-filing/ferconline.asp) under the “e-Filing” link. For a simpler method of submitting text only comments, click on “Quick Comment”. For assistance, please contact FERC Online Support at FERCOnlineSupport@ferc.gov; call toll-free at (866) 208-3676; or, for TTY, contact (202) 502-8659. Although the Commission strongly encourages electronic filing, documents may also be paper-filed. To paper-file, mail an original and eight copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

o. Any qualified applicant desiring to file a competing application must submit to the Commission, on or before the specified intervention deadline date, a competing development application, or a notice of intent to file such an application. Submission of a timely notice of intent allows an interested person to file the competing development application no later than 120 days after the specified intervention deadline date. Applications for preliminary permits will not be accepted in response to this notice.

A notice of intent must specify the exact name, business address, and telephone number of the prospective applicant, and must include an unequivocal statement of intent to submit a development application. A notice of intent must be served on the applicant(s) named in this public notice.

Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

All filings must (1) bear in all capital letters the title “PROTEST”, “MOTION TO INTERVENE”, “NOTICE OF INTENT TO FILE COMPETING APPLICATION,” “COMPETING APPLICATION,” “COMMENTS,” or “REPLY COMMENTS,” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

p. With this notice, we are initiating consultation with the COLORADO STATE HISTORIC PRESERVATION OFFICER (SHPO), as required by 106, National Historic Preservation Act, and the regulations of the Advisory Council on Historic Preservation, 36 CFR pt. 800.4.

q. Procedural Schedule and Final Amendments: We intend to accept the consultation that has occurred on this project during the pre-filing period as satisfying our requirements for the standard 3-stage consultation process under 18 CFR 4.38 and for National Environmental Policy Act scoping. Based on a review of the application, resource agency consultation letters, and comments filed to date, Commission staff intends to prepare a single environmental assessment (EA) for the proposed project.

Kimberly D. Bose,
Secretary.

[FR Doc. 2010-27792 Filed 11-3-10; 8:45 am]

BILLING CODE 6717-01-P